DEPARTMENT OF AGRICULTURE

Forest Service

Buckman Water Diversion Project; Meetings

AGENCY: Forest Service, Santa Fe National Forest, USDA.

ACTION: Notice of scoping meetings.

SUMMARY: The USDA Forest Service (FS)—in conjunction with the Department of Interior's Bureau of Land Management and Bureau of Reclamation—will hold public scoping meetings to discuss the Buckman Water Diversion Project. The Notice of Intent to prepare an environmental impact statement was published in the Federal Register (67 FR 47764, July 22, 2002).

The Notice of Intent provides specific information regarding the project. This public scoping meeting notice intends to inform interested and potentially affected parties of the meeting schedule to be conducted during the scoping phase of this environmental analysis.

DATES: Two scoping meetings will be held. The first will be held on Tuesday, August 20, 2002, from 3 to 5 p.m. The second meeting will be held on Thursday, August 29, 2002, from 7 to 9 p.m. Both meetings will be held in Santa Fe, New Mexico.

ADDRESSES: The two scoping meetings will be held at the Santa Fe Sweeney Center, 201 W. Marcy Street, Santa Fe, New Mexico, 87501 (505 955-6218).

FOR FURTHER INFORMATION CONTACT: Mr. Sandy Hurlocker, NEPA Coordinator, Española Ranger District, (505) 753-7331.

(Authority: 40 CFR 1501.7 and 1508.22; Forest Service Handbook 1909.15, Section 21)

Dated: July 22, 2002.
Gilbert Zepeda,
Acting Santa Fe Forest Supervisor.

[FR Doc. 02-19145 Filed 7-29-02; 8:45 am]

BILLING CODE 3410-11-M